DEPARTMENT OF TRANSPORTATION

Federal Aviation Administration

14 CFR Part 39

[Docket No. FAA-2010-0261; Directorate Identifier 2010-CE-008-AD]

RIN 2120-AA64

Airworthiness Directives; Quartz Mountain Aerospace, Inc. Model 11E Airplanes

AGENCY: Federal Aviation Administration (FAA), Department of Transportation (DOT).

ACTION: Notice of proposed rulemaking (NPRM).

SUMMARY: We propose to adopt a new airworthiness directive (AD) for all Quartz Mountain Aerospace, Inc. Model 11E airplanes. This proposed AD would require you to clean and lubricate the aileron pushrod bearings. This proposed AD results from reports of the aileron control stick force increasing and of the controls being very noisy. We are proposing this AD to detect and correct insufficient lubrication and residual metallic paint particles in the pushrod end ball joints, which could result in difficulty actuating aileron controls sometime during flight after takeoff. This condition could lead to difficulty controlling the airplane in flight.

DATES: We must receive comments on this proposed AD by April 30, 2010.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Quartz Mountain Aerospace, Inc. is in liquidation. For service/or continued airworthiness information identified in this proposed AD, contact Manager, Fort Worth Aircraft Certification Office, FAA, ATTN: Garry D. Sills, Aerospace Engineer, Rotorcraft Directorate—Airplane Certification Office, ASW-150, 2601 Meacham Blvd., Fort Worth, Texas 76193; telephone: (817) 222-5154; facsimile: (817) 222-5960.

FOR FURTHER INFORMATION CONTACT: Garry D. Sills, Aerospace Engineer, Rotorcraft Directorate—Airplane Certification Office, ASW-150, 2601 Meacham Blvd., Fort Worth, Texas 76193; telephone: (817) 222-5154; fax: (817) 222-5960.

SUPPLEMENTARY INFORMATION:

Comments Invited

We invite you to send any written relevant data, views, or arguments regarding this proposed AD. Send your comments to an address listed under the ADDRESSES section. Include the docket number, “FAA-2010-0261; Directorate Identifier 2010-CE-008-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received reports of the aileron control stick force increasing and of the controls being very noisy on Quartz Mountain Aerospace, Inc. Model 11E airplanes. This condition may not be detectable before takeoff. In one actual instance, the condition occurred during flight. The stick force increased after preflight inspection and after takeoff. The airplane was operated by a student pilot, who had trouble flying the airplane when this occurred, and the certified flight instructor (CFI) had to take control and land the airplane. Lubricating the rod end removed the condition.

Inspection revealed the left and right aileron push rod forward ends at the bellcrank were dry due to no lubrication.

Further examination of the pushrod end ball joint hardware by the manufacturer found that the ball joint surfaces were additionally contaminated with specks of metallic paint as well as not being lubricated. A review of manufacturer build procedures found airplane painting with the rod ends exposed. Production procedures were changed to prevent further contamination.

This condition, if not corrected, could lead to difficulty controlling the airplane in flight.

Relevant Service Information

We have reviewed Quartz Mountain Aerospace Service Bulletin No. SB 09-02, dated May 5, 2009.

The service information describes procedures for cleaning and lubricating the aileron pushrod bearings.

FAA's Determination and Requirements of the Proposed AD

We are proposing this AD because we evaluated all information and determined the unsafe condition described previously is likely to exist or develop on other products of the same type design. This proposed AD would require you to clean and lubricate the aileron pushrod bearings.

Costs of Compliance

We estimate that this proposed AD would affect 12 airplanes in the U.S. registry.

We estimate the following costs to do the proposed cleaning and lubrication:

Labor cost | Parts cost | Total cost per airplane | Total cost on U.S. operators
1 work-hour × $85 per hour = $85 | $10 | $95 | $1,140

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Quartz Mountain Aerospace, Inc.: Docket No. FAA-2010-0261; Directorate Identifier 2010-CE-008-AD.

Comments Due Date

(a) We must receive comments on this airworthiness directive (AD) action by April 30, 2010.

Affected ADs

(b) None.

Applicability

(c) This AD applies to Model 11E airplanes, all serial numbers, that are certificated in any category.

Subject

(d) Air Transport Association of America (ATA) Code 27: Flight Controls.

Unsafe Condition

(e) This AD results from reports of the aileron control stick force increasing and of the controls being very noisy. We are issuing this AD to detect and correct insufficient lubrication and residual metallic paint particles in the rod end ball joints, which could result in difficulty actuating aileron controls sometime during flight after takeoff. This failure could lead to difficulty controlling the airplane in flight.

Compliance

(f) To address this problem, you must do the following, unless already done:

Actions | Compliance | Procedures
(1) Clean and lubricate the aileron pushrod bearings | With the next 10 hours time-in-service (TIS) after the effective date of this AD | Follow Quartz Mountain Aerospace Service Bulletin No. SB 09-02, dated May 5, 2009.
(2) Lubricate the aileron pushrod bearings | Within 50 hours TIS after the cleaning and lubrication required by paragraph (f)(1) of this AD. Thereafter, repetitively at intervals not to exceed 50 hours TIS | Follow Quartz Mountain Aerospace Service Bulletin No. SB 09-02, dated May 5, 2009.

Special Flight Permit

(g) Under 14 CFR part 39.23, a special flight is not permitted for this AD.

Alternative Methods of Compliance (AMOCs)

(h) The Manager, Fort Worth Aircraft Certification Office, FAA, has the authority to approve AMOCs for this AD, if requested using the procedures found in 14 CFR 39.19. Send information to ATTN: Garry D. Sills, Aerospace Engineer, Rotorcraft Directorate—Airplane Certification Office, ASW-150, 2601 Meacham Blvd., Fort Worth, Texas 76193; telephone: (817) 222-5154; facsimile: (817) 222-5960. Before using any approved AMOC on any airplane to which the AMOC applies, notify your appropriate principal inspector (PI) in the FAA Flight Standards District Office (FSDO), or lacking a PI, your local FSDO.

Related Information

(i) Quartz Mountain Aerospace, Inc. is in liquidation. To get copies of the service/continued airworthiness information referenced in this AD, contact Manager, Fort Worth Aircraft Certification Office, FAA, ATTN: Garry D. Sills, Aerospace Engineer, Rotorcraft Directorate—Airplane Certification Office, ASW-150, 2601 Meacham Blvd., Fort Worth, Texas 76193; telephone: (817) 222-5154; fax: (817) 222-5960. To view the AD docket, go to U.S. Department of Transportation, Docket Operations, M-30, West Building Ground Floor, Room W12-140, 1200 New Jersey Avenue, SE., Washington, DC 20590, or on the Internet at http://www.regulations.gov.

Issued in Kansas City, Missouri, on March 9, 2010.
Sandra J. Campbell,
Acting Manager, Small Airplane Directorate, Aircraft Certification Service.

[FR Doc. 2010-5631 Filed 3-15-10; 8:45 am]

BILLING CODE 4910-13-P